DEPARTMENT OF HOMELAND SECURITY

Transportation Security Administration

[Docket No. TSA-2018-0001]

Request for Applicants for Appointment to the Surface Transportation Security Advisory Committee

AGENCY: Transportation Security Administration, DHS.

ACTION: Committee Management; request for applicants.

SUMMARY: The Transportation Security Administration (TSA) is soliciting statements of interest from qualified individuals to serve on the Surface Transportation Security Advisory Committee (STSAC). The purpose of the STSAC is to advise, consult with, report to, and make recommendations to the Administrator of TSA on surface transportation security matters, including the development, refinement, and implementation of policies, programs, initiatives, rulemakings, and security directives pertaining to surface transportation security.

DATES: Applications for membership must be submitted to TSA using one of the methods in the ADDRESSES section below on or before March 14, 2019.

ADDRESSES: Applications must be submitted by one of the following means:

• Email: STSAC@tsa.dhs.gov.

• Mail: Henry Budhram, Jr., STSAC Coordinator, Transportation Security Administration (TSA-28), 601 12th St. South, Arlington, VA 20598-4028.

See SUPPLEMENTARY INFORMATION for application requirements.

FOR FURTHER INFORMATION CONTACT: Henry Budhram, Jr., STSAC Designated Federal Official, Transportation Security Administration (TSA-28), 601 12th St. South, Arlington, VA 20598-4028, STSAC@tsa.dhs.gov, 571-227-4268.

SUPPLEMENTARY INFORMATION: The STSAC is an advisory committee established pursuant to section 1969, Division K, TSA Modernization Act, of the FAA Reauthorization Act of 2018 (Pub. L. 115-254, 132 Stat. 3186, Oct. 5, 2018). The statute exempts the Committee, and any subcommittees, from the Federal Advisory Committee Act (5 U.S.C. App.).

Membership

The STSAC will be composed of no more than 40 voting members from among stakeholders representing each mode of surface transportation, such as passenger rail, freight rail, mass transit, pipelines, highways, over-the-road bus, school bus industry, and trucking; and may include representatives from—

1. Associations representing such modes of surface transportation;

2. Labor organizations representing such modes of surface transportation;

3. Groups representing the users of such modes of surface transportation, including asset manufacturers, as appropriate;

4. Relevant law enforcement, first responders, and security experts; and

5. Such other groups as the Administrator considers appropriate.

The STSAC will also include nonvoting members, serving in an advisory capacity, who will be designated by TSA; the Department of Transportation; the Coast Guard; and such other Federal department or agency as the Administrator considers appropriate.

The STSAC does not have a specific number of members allocated to any membership category and the number of members in a category may change to fit the needs of the Committee, but each organization will be represented by one individual. Members will serve as representatives and speak on behalf of their respective constituency group. Membership on the Committee is personal to the appointee and a member may not send an alternate to a Committee meeting.

Committee members are appointed by and serve at the pleasure of the Administrator of TSA for a term of two years. The members of the Committee will not receive any compensation from the Government by reason of their service on the Committee.

Committee Meetings

The Committee will typically convene two times per year; additional meetings may be held with the approval of the Committee Chairman and Designated Federal Official. Due to the sensitive nature of the material discussed, meetings are typically closed to the public. At least one meeting will be open to the public each year. In addition, STSAC members will be expected to participate on STSAC subcommittees that may meet more frequently for deliberation and to discuss specific surface transportation matters.

Application for Advisory Committee Appointment

Any person wishing to be considered for appointment to STSAC must provide the following:

• Complete professional resume.

• Statement of interest and reasons for application, including the membership category and how you represent a significant portion of that constituency.

• Home and work addresses, telephone number, and email address.

Please submit your application to the Designated Federal Official in ADDRESSES noted above by March 14, 2019. TSA may need to request additional information necessary for review of the application and completion of background check(s).

Dated: February 6, 2019.
Eddie D. Mayenschein,
Assistant Administrator, Policy, Plans, and Engagement.

[FR Doc. 2019-01935 Filed 2-11-19; 8:45 am]

BILLING CODE 9110-05-P